DEPARTMENT OF COMMERCE

International Trade Administration

[A-427-801, A-428-801, A-475-801, A-588-804, A-412-801]

Ball Bearings and Parts Thereof From France, Germany, Italy, Japan, and the United Kingdom: Preliminary Results of Antidumping Administrative and Changed-Circumstances Reviews

AGENCY: Import Administration, International Trade Administration, Department of Commerce.

SUMMARY: In response to requests from interested parties, the Department of Commerce (the Department) is conducting administrative reviews of the antidumping duty orders on ball bearings and parts thereof from France, Germany, Italy, Japan, and the United Kingdom for the period May 1, 2009, through April 30, 2010. We have preliminarily determined that sales have been made below normal value by certain companies subject to these reviews. We have also preliminarily determined that Schaeffler Technologies GmbH & Co. KG is the successor-in-interest to Schaeffler KG with respect to the order on ball bearings and parts thereof from Germany.

We invite interested parties to comment on these preliminary results. Parties who submit comments in these reviews are requested to submit with each argument (1) a statement of the issue and (2) a brief summary of the argument.

DATES: Effective Date: April 21, 2011.

FOR FURTHER INFORMATION CONTACT: Thomas Schauer, AD/CVD Operations, Office 5, Import Administration, International Trade Administration, U.S. Department of Commerce, 14th Street and Constitution Avenue, NW., Washington, DC 20230; telephone: (202) 482-0410.

SUPPLEMENTARY INFORMATION:

Background

On May 15, 1989, the Department published the antidumping duty orders on ball bearings and parts thereof from France (54 FR 20902), Germany (54 FR 20900), Italy (54 FR 20903), Japan (54 FR 20904), and the United Kingdom (54 FR 20910) in the Federal Register. On June 30, 2010, in accordance with 19 CFR 351.221(b), we published a notice of initiation of administrative reviews of 133 companies subject to these orders. See Initiation of Antidumping and Countervailing Duty Administrative Reviews and Requests for Revocation in Part, 75 FR 37759 (June 30, 2010) (Initiation Notice).

Subsequent to the initiation of these reviews we published in the Federal Register the final results of the 2008-2009 administrative reviews of the orders, in which we revoked the antidumping duty order on ball bearings and parts thereof from the United Kingdom, in part, with respect to merchandise exported or sold by The Barden Corporation (U.K.) Limited and Schaeffler (U.K.) Limited (The Schaeffler Group) effective May 1, 2009.¹ As a result we rescinded the 2009-2010 administrative review of the order on merchandise from the United Kingdom.² We have also rescinded the administrative reviews with respect to 34 other companies based on the withdrawals of the applicable requests for reviews. See Rescission.

¹ See Ball Bearings and Parts Thereof From France, et al.: Final Results of Antidumping Duty Administrative Reviews, Final Results of Changed-Circumstances Review, and Revocation of an Order in Part, 75 FR 53661 (September 1, 2010) (AFBs 20).

² See Ball Bearings and Parts Thereof From France, et al.: Partial Rescission of Antidumping Duty Administrative Review, 75 FR 69402 (November 12, 2010), and Ball Bearings and Parts Thereof From France: Partial Rescission of Antidumping Duty Administrative Review, 76 FR 327 (January 4, 2011) (collectively Rescission).

On January 14, 2011, we issued a notice of extension of the deadline for completion of the preliminary results of reviews from January 31, 2011, to March 17, 2011. See Ball Bearings and Parts Thereof From France, et al.: Extension of Time Limit for Preliminary Results of Antidumping Duty Administrative Reviews, 76 FR 2647 (January 14, 2011). On March 22, 2011, we issued a second notice of extension of the deadline for completion of the preliminary results of reviews from March 17, 2011, to April 18, 2011. See Ball Bearings and Parts Thereof From France, et al.: Extension of Time Limit for Preliminary Results of Antidumping Duty Administrative and Changed-Circumstances Reviews, 76 FR 15940 (March 22, 2011).

The period of review is May 1, 2009, through April 30, 2010. The Department is conducting these administrative reviews in accordance with section 751 of the Tariff Act of 1930, as amended (the Act).

Scope of the Orders

The products covered by the orders are ball bearings and parts thereof. These products include all antifriction bearings that employ balls as the rolling element. Imports of these products are classified under the following categories: Antifriction balls, ball bearings with integral shafts, ball bearings (including radial ball bearings) and parts thereof, and housed or mounted ball bearing units and parts thereof.

Imports of these products are classified under the following Harmonized Tariff Schedule of the United States (HTSUS) subheadings: 3926.90.45, 4016.93.10, 4016.93.50, 6909.19.50.10, 8414.90.41.75, 8431.20.00, 8431.39.00.10, 8482.10.10, 8482.10.50, 8482.80.00, 8482.91.00, 8482.99.05, 8482.99.35, 8482.99.25.80, 8482.99.65.95, 8483.20.40, 8483.20.80, 8483.30.40, 8483.30.80, 8483.50.90, 8483.90.20, 8483.90.30, 8483.90.70, 8708.50.50, 8708.60.50, 8708.60.80, 8708.93.30, 8708.93.60.00, 8708.99.06, 8708.99.31.00, 8708.99.40.00, 8708.99.49.60, 8708.99.58, 8708.99.80.15, 8708.99.80.80, 8803.10.00, 8803.20.00, 8803.30.00, 8803.90.30, 8803.90.90, 8708.30.50.90, 8708.40.75.70, 8708.40.75.80, 8708.50.79.00, 8708.50.89.00, 8708.50.91.50, 8708.50.99.00, 8708.70.60.60, 8708.80.65.90, 8708.93.75.00, 8708.94.75, 8708.95.20.00, 8708.99.55.00, 8708.99.68, and 8708.99.81.80.

Although the HTSUS item numbers above are provided for convenience and customs purposes, the written descriptions of the scope of the orders remain dispositive.

The size or precision grade of a bearing does not influence whether the bearing is covered by one of the orders. The orders cover all the subject bearings and parts thereof (inner race, outer race, cage, rollers, balls, seals, shields, etc.) outlined above with certain limitations. With regard to finished parts, all such parts are included in the scope of the orders. For unfinished parts, such parts are included if they have been heat-treated or if heat treatment is not required to be performed on the part. Thus, the only unfinished parts that are not covered by the orders are those that will be subject to heat treatment after importation. The ultimate application of a bearing also does not influence whether the bearing is covered by the orders. Bearings designed for highly specialized applications are not excluded. Any of the subject bearings, regardless of whether they may ultimately be utilized in aircraft, automobiles, or other equipment, are within the scope of the orders.

For a list of scope determinations which pertain to the orders, see the “Memorandum to Laurie Parkhill” regarding scope determinations for the 2009/2010 reviews, dated concurrently with this notice, which is on file in the Central Records Unit (CRU) of the main Commerce building, room 7046, in the General Issues record (A-100-001).

Selection of Respondents

Due to the large number of companies in the reviews and the resulting administrative burden to examine each company for which a request had been made and not withdrawn, the Department exercised its authority to limit the number of respondents selected for individual examination in these reviews. Where it is not practicable to examine all known exporters/producers of subject merchandise because of the large number of such companies, section 777A(c)(2) of the Act allows the Department to limit its examination to either a sample of exporters, producers, or types of products that is statistically valid, based on the information available at the time of selection, or exporters and producers accounting for the largest volume of subject merchandise from the exporting country that can be reasonably examined.

Accordingly, in June 2010 we requested information concerning the quantity and value of sales to the United States from the 133 exporters/producers for which we had initiated reviews. We received responses from most of the exporters/producers subject to the reviews; some companies withdrew their requests for review and some companies did not respond to our request for information.³ Based on our analysis of the responses and our available resources, we chose to examine the sales of certain companies. See Memoranda to Laurie Parkhill, dated August 18, 2010, for the detailed analysis of the selection process for each country-specific review. We selected the following companies for individual examination:

³ See “Use of Facts Otherwise Available section.”

Country | Company
France | SKF France S.A. and SKF Aerospace France S.A.S (SKF France) SNR Roulements S.A./SNR Europe (SNR).
Germany | Schaeffler KG myonic GmbH (myonic).
Italy | Schaeffler Italia S.r.l. (formerly FAG Italia S.p.A.) SKF Industrie S.p.A./Somecat S.p.A. (SKF Italy).
Japan | NTN Corporation (NTN) NSK Ltd.
United Kingdom | Barden Corporation (U.K.) Limited and Schaeffler (U.K.) Limited ⁴ NSK Bearings Europe Ltd. (NSK U.K.).

Non-Selected Respondents

For the respondents we did not examine individually in the administrative reviews of the orders on merchandise from France, Germany, and Italy, we cannot apply our normal methodology of calculating a weighted-average margin using the results of the reviews for the two respondents we selected in each review for individual examination due to their requests to protect their business-proprietary information. In such situations, it is our normal practice to calculate a weighted-average margin using the publicly available U.S. sales values and antidumping duty margins of the two selected respondents or to use the simple average of their margins, depending on which result is closer to the actual weighted-average margin of the companies in question. See AFBs 20 and accompanying Issues and Decision Memorandum at Comment 1.

⁴ Revocation resulted in rescission of the review with respect to these firms. See “Background” section above and Rescission.

For responding companies in the administrative reviews of the orders on subject merchandise from France, Germany, and Italy that were not individually examined, we have used weighted-average margins and the publicly available U.S. sales values of the two selected respondents in each respective review to calculate the weighted-average margin. Therefore, we have applied, for these preliminary results, the rate of 5.12 percent (France), the rate of 6.26 percent (Germany), and the rate of 12.32 percent (Italy) to the firms not individually examined in the respective reviews. See the country-specific Memoranda to the File concerning Respondents Not Selected for Individual Examination for France, Germany, and Italy dated concurrently with this notice for an explanation of our calculations.

With respect to the responding companies which remain under review and which we did not select for individual examination in the review of the order on subject merchandise from the United Kingdom, we have assigned the margin we have calculated for NSK U.K. of 5.90 percent to these firms because, after rescission of the review with respect to Barden Corporation (U.K.) Limited and Schaeffler (U.K) Limited, NSK U.K. was the sole remaining company selected for individual examination. With respect to the responding companies which remain under review and which we did not select for individual examination in the review of the order on subject merchandise from Japan, because we do not have publicly available information on U.S. sales value for one of the selected respondents, we have assigned to the non-selected respondents the simple-average margin of the two respondents selected for individual examination; that rate is 11.36 percent.

Voluntary Respondents

We received voluntary responses from Asahi Seiko Co., Ltd. (Asahi), and Mori Seiki Co., Ltd., with respect to the review of the order on merchandise from Japan. Due to changes in our workload since our initial selection of respondents for individual examination, we decided to treat these firms as firms selected for individual examination as well. See Memorandum to Laurie Parkhill dated November 15, 2010.

No-Shipments Respondent

On July 15, 2010, SNR UK submitted a letter indicating that it made no sales to the United States during the period of review. We have not received any comments on SNR UK's submission. We confirmed SNR UK's claim of no shipments by issuing a “No-Shipments Inquiry” to U.S. Customs and Border Protection (CBP) on March 18, 2011.

With regard to SNR UK's claim of no shipments, our practice since implementation of the 1997 regulations concerning no-shipments respondents has been to rescind the administrative review if the respondent certifies that it had no shipments and we have confirmed through our examination of CBP data that there were no shipments of subject merchandise during the POR. See Antidumping Duties; Countervailing Duties, 62 FR 27296, 27393 (May 19, 1997), and Oil Country Tubular Goods from Japan: Preliminary Results of Antidumping Duty Administrative Review and Partial Rescission of Review, 70 FR 53161, 53162 (September 7, 2005), unchanged in Oil Country Tubular Goods from Japan: Final Results and Partial Rescission of Antidumping Duty Administrative Review, 71 FR 95 (January 3, 2006). As a result, in such circumstances, we normally instruct CBP to liquidate any entries from the no-shipment company at the deposit rate in effect on the date of entry.

In our May 6, 2003, “automatic assessment” clarification, we explained that, where respondents in an administrative review demonstrate that they had no knowledge of sales through resellers to the United States, we would instruct CBP to liquidate such entries at the all-others rate applicable to the proceeding. See Antidumping and Countervailing Duty Proceedings: Assessment of Antidumping Duties, 68 FR 23954 (May 6, 2003) (May 2003 clarification).

Based on SNR UK's assertion of no shipments and no indication from CBP that there are suspended entries of subject merchandise from SNR UK, we preliminarily determine that SNR UK had no sales to the United States during the POR.

Because “as entered” liquidation instructions do not alleviate the concerns which the May 2003 clarification was intended to address, we find it appropriate in this case to instruct CBP to liquidate any existing entries of merchandise produced by SNR UK at the all-others rate should we continue to find at the time of our final results that SNR UK had no shipments of subject merchandise from the United Kingdom. See Magnesium Metal From the Russian Federation: Preliminary Results of Antidumping Duty Administrative Review, 75 FR 26922, 26933 (May 13, 2010), unchanged in Magnesium Metal From the Russian Federation: Final Results of Antidumping Duty Administrative Review, 75 FR 56989 (September 17, 2010). See also Certain Frozen Warmwater Shrimp from India: Partial Rescission of Antidumping Duty Administrative Review, 73 FR 77610, 77612 (December 19, 2008). In addition, the Department finds that it is more consistent with the May 2003 clarification not to rescind the review in part in these circumstances but, rather, to complete the review with respect to SNR UK and issue appropriate instructions to CBP based on the final results of the review. See the “Assessment Rates” section of this notice below.

Verification

As provided in section 782(i) of the Act, we have verified information provided by NSK Ltd. and Schaeffler KG.

We conducted these verifications using standard verification procedures including the examination of relevant sales and financial records and the selection and review of original documentation containing relevant information. Our verification results are outlined in the public versions of our verification reports which are on file in CRU, room 7046 of the main Department building.

Use of Facts Otherwise Available

For the reasons discussed below, we determine that the use of adverse facts available (AFA) is appropriate for the preliminary results of reviews with respect to several companies.

A. Use of Facts Available

Section 776(a)(2) of the Act provides that, if an interested party withholds information requested by the administering authority, fails to provide such information by the deadlines for submission of the information and in the form or manner requested, subject to subsections (c)(1) and (e) of section 782 of the Act, significantly impedes a proceeding under this title, or provides such information but the information cannot be verified as provided in section 782(i) of the Act, the administering authority shall use, subject to section 782(d) of the Act, facts otherwise available in reaching the applicable determination. Section 782(d) of the Act provides that, if the administering authority determines that a response to a request for information does not comply with the request, the administering authority shall promptly inform the responding party and, to the extent practicable, provide an opportunity to remedy the deficient submission. If the party fails to remedy the deficiency within the applicable time limits, the Department may disregard, subject to section 782(e) of the Act, all or part of the original and subsequent responses, as appropriate. Section 782(e) of the Act provides that the Department “shall not decline to consider information that is submitted by an interested party and is necessary to the determination but does not meet all the applicable requirements established by the administering authority” if the information is timely, can be verified, and is not so incomplete that it cannot be used and if the interested party acted to the best of its ability in providing the information. Where all of these conditions are met, the statute requires the Department to use the information if it can do so without undue difficulties.

The following companies did not respond to our request to provide information concerning the quantity and value of their U.S. sales: France—AVIAC, Eurocopter SAS, Groupe Intertechnique, SNECMA, and Tecnofan; Italy—Eurocopter and SNECMA; Japan—Tsubakimoto. Because these companies did not respond to our request, we could not determine whether and to what extent these companies participated in sales of subject merchandise to the U.S. market. Moreover, because these companies failed to provide the information requested and thus significantly impeded the respective country-specific reviews, we find that we must base their margins on facts otherwise available. See section 776(a) of the Act.

B. Application of Adverse Inferences for Facts Available

In applying the facts otherwise available, section 776(b) of the Act provides that, if the administering authority finds that an interested party has failed to cooperate by not acting to the best of its ability to comply with a request for information from the administering authority, in reaching the applicable determination under this title, the administering authority may use an adverse inference in selecting from among the facts otherwise available. See, e.g., Notice of Final Results of Antidumping Duty Administrative Review, and Final Determination to Revoke the Order In Part: Individually Quick Frozen Red Raspberries from Chile, 72 FR 70295, 70297 (December 11, 2007) (Raspberries from Chile Final), and Notice of Preliminary Determination of Sales at Less Than Fair Value, and Postponement of Final Determination: Certain Circular Welded Carbon-Quality Line Pipe From Mexico, 69 FR 59892, 59896 (October 6, 2004).

Adverse inferences are appropriate “to ensure that the party does not obtain a more favorable result by failing to cooperate than if it had cooperated fully.” See Notice of Preliminary Results of Antidumping Duty Administrative Review, Notice of Partial Rescission of Antidumping Duty Administrative Review, Notice of Intent to Revoke in Part: Certain Individually Quick Frozen Red Raspberries from Chile, 72 FR 44112, 44114 (August 7, 2007) (unchanged in Raspberries from Chile Final, 72 FR at 70297). Further, “affirmative evidence of bad faith on the part of a respondent is not required before the Department may make an adverse inference.” See Antidumping Duties; Countervailing Duties, 62 FR 27296, 27340 (May 19, 1997). See also Nippon Steel Corp. v. United States, 337 F.3d 1373, 1380-84 (CAFC 2003).

Because the non-responding companies did not provide requested data concerning their sales of subject merchandise to the United States during the period of review, we determine that they have failed to cooperate by not acting to the best of their ability. See Antifriction Bearings and Parts Thereof From France, et al.: Final Results of Antidumping Duty Administrative Reviews, Rescission of Administrative Reviews in Part, and Determination To Revoke Order in Part, 69 FR 55574 (September 15, 2004) (AFBs 14). Therefore, we conclude that the use of an adverse inference is warranted in applying facts otherwise available to these companies.

C. Selection and Corroboration of Information Used as Facts Available

As facts available with an adverse inference, we have selected the rates of 66.42 percent for AVIAC, Eurocopter SAS, Groupe Intertechnique, SNECMA, and Technofan (France), 69.99 percent for Eurocopter SAS and SNECMA (Italy), and 73.55 percent for Tsubakimoto (Japan). These rates represent the highest rates calculated in the history of the respective proceedings and are from the respective less-than-fair-value investigations for each country. See Final Determinations of Sales at Less Than Fair Value: Antifriction Bearings (Other Than Tapered Roller Bearings) and Parts Thereof From France, 54 FR 19092, 19096 (May 3, 1989), Final Determinations of Sales at Less Than Fair Value: Antifriction Bearings (Other Than Spherical Plain and Tapered Roller Bearings) and Parts Thereof From Italy; and Final Determination of Sales at Not Less Than Fair Value; Spherical Plain Bearings and Parts Thereof, From Italy, 54 FR 19096, 19101 (May 3, 1989), and Final Determinations of Sales at Less Than Fair Value; Antifriction Bearings (Other Than Tapered Roller Bearings) and Parts Thereof From Japan, 54 FR 19101, 19108 (May 3, 1989).

Section 776(c) of the Act provides that the Department shall corroborate, to the extent practicable, secondary information used for facts available by reviewing independent sources reasonably at its disposal. Information from a prior segment of the proceeding constitutes secondary information. See Certain Frozen Warmwater Shrimp from Brazil: Final Results and Partial Rescission of Antidumping Duty Administrative Review, 73 FR 39940 (July 11, 2008). The word “corroborate” means that the Department will satisfy itself that the secondary information to be used has probative value.

To corroborate secondary information, the Department will examine, to the extent practicable, the reliability and relevance of the information used. Unlike other types of information such as input costs or selling expenses, however, there are no independent sources for calculated dumping margins. The only source for margins is administrative determinations. Thus, with respect to an administrative review, if we choose as facts available a calculated dumping margin from a prior segment of the proceeding, it is our practice to find the margin for that time period reliable. See, e.g., AFBs 14, 69 FR at 55577. With respect to the relevance aspect of corroboration, the Department will consider information reasonably at its disposal as to whether there are circumstances that would render a margin not relevant. Where circumstances indicate that the selected margin is not appropriate as AFA, the Department will disregard the margin and determine an appropriate margin. See Fresh Cut Flowers From Mexico; Final Results of Antidumping Duty Administrative Review, 61 FR 6812, 6814 (February 22, 1996) (the Department disregarded the highest dumping margin as best information available because the margin was based on another company's uncharacteristic business expense resulting in an unusually high margin).

We find that the rates we are using for these preliminary results, as identified above, have probative value and, therefore, are appropriate rates for use as AFA. All rates fell within the range of margins we calculated for companies in the respective country-specific administrative reviews and there is no information on the record of the reviews that demonstrates that the selected rates are not appropriate AFA rates for the non-responsive firms.

For more detail concerning the corroboration of the AFA rates, see the country-specific Memoranda to Laurie Parkhill, dated concurrently with this notice.

Export Price and Constructed Export Price

For the price to the United States, we used export price (EP) or constructed export price (CEP) as defined in sections 772(a) and (b) of the Act, as appropriate. Due to the extremely large volume of U.S. transactions that occurred during the period of review and the resulting administrative burden involved in calculating individual margins for all of these transactions, we sampled CEP sales in accordance with section 777A of the Act. When a selected firm made more than 10,000 CEP sales transactions to the United States of merchandise subject to a particular order, we reviewed CEP sales that occurred during sample weeks. We selected one week from each two-month period in the review period, for a total of six weeks, and analyzed each transaction made in those six weeks. The sample weeks are as follows: June 7, 2009-June 13, 2009; July 5, 2009-July 11, 2009; October 18, 2009-October 24, 2009; November 1, 2009-November 7, 2009; January 10, 2010-January 16, 2010; March 28, 2010-April 3, 2010. We reviewed all EP sales transactions which the respondents we selected for individual examination made during the period of review.

We calculated EP and CEP based on the packed F.O.B., C.I.F., or delivered price to unaffiliated purchasers in, or for exportation to, the United States. We made deductions, as appropriate, for discounts and rebates. See 19 CFR 351.401(c) and 351.102(b)(38). We also made deductions for any movement expenses in accordance with section 772(c)(2)(A) of the Act.

Certain companies received freight revenues or packing revenues from the customer for certain U.S. sales. In Certain Orange Juice from Brazil: Final Results and Partial Rescission of Antidumping Duty Administrative Review, 73 FR 46584 (August 11, 2008) (OJ Brazil), and accompanying Issues and Decision Memorandum at Comment 7 and in Polyethylene Retail Carrier Bags from the People's Republic of China: Final Results of Antidumping Duty Administrative Review, 74 FR 6857 (February 11, 2009) (PRC Bags), and accompanying Issues and Decision Memorandum at Comment 6, the Department determined to treat such revenues as an offset to the specific expenses for which they were intended to compensate. Accordingly, we have used the revenues of the particular respondents as an offset to their respective expenses.

Consistent with section 772(d)(1) of the Act, we calculated CEP by deducting selling expenses associated with economic activities occurring in the United States which includes commissions, direct selling expenses, and U.S. repacking expenses. In accordance with sections 772(d)(1) and (2) of the Act, we also deducted those indirect selling expenses associated with economic activities occurring in the United States and the profit allocated to expenses deducted under section 772(d)(1) of the Act in accordance with sections 772(d)(3) and 772(f) of the Act. In accordance with section 772(f) of the Act, we computed profit based on the total revenues realized on sales in both the U.S. and home markets, less all expenses associated with those sales. We then allocated profit to expenses incurred with respect to U.S. economic activity based on the ratio of total U.S. expenses to total expenses for both the U.S. and home markets. Finally, we made an adjustment for profit allocated to these expenses in accordance with section 772(d)(3) of the Act.

With respect to NTN, because it reported fiscal-year expenses, we recalculated technical-service expenses, certain U.S. inland-freight expenses, indirect selling expenses, and repacking expenses using an allocation on the basis of fiscal-year value of sales instead of its reported allocation on the basis of value of sales during the period of review. Also, with respect to NTN, we recalculated the reported inventory-carrying costs consistent with the methodology described in Ball Bearings and Parts Thereof From France, et al.: Final Results of Antidumping Duty Administrative Reviews and Rescission of Reviews in Part, 73 FR 52823 (September 11, 2008) (AFBs 18), and accompanying Issues and Decision Memorandum at Comment 13.

With respect to SNR, because it reported inland-freight expenses and international-freight expenses applicable to its U.S. sales on the basis of value, we recalculated these expenses on the basis of weight. See Ball Bearings and Parts Thereof from France, et al.: Preliminary Results of Antidumping Duty Administrative Reviews, 71 FR 12170, 12173 (March 9, 2006), unchanged in Ball Bearings and Parts Thereof from France, et al.: Final Results of Antidumping Duty Administrative Reviews, 71 FR 40064 (July 14, 2006) (AFBs 16), and accompanying Issues and Decision Memorandum at Comment 6.

With respect to NSK Ltd., we reclassified certain expenses associated with Japanese workers in the United States as indirect selling expenses and deducted them from CEP consistent with the methodology described in AFBs 16 and accompanying Issues and Decision Memorandum at Comment 26.

With respect to subject merchandise to which value was added in the United States prior to sale to unaffiliated U.S. customers, e.g., parts of bearings that were imported by U.S. affiliates of foreign exporters and then further processed into other products which were then sold to unaffiliated parties, we determined that the special rule for merchandise with value added after importation under section 772(e) of the Act applied to all firms that added value in the United States with the exception of Asahi.

Section 772(e) of the Act provides that, when the subject merchandise is imported by an affiliated person and the value added in the United States by the affiliated person is likely to exceed substantially the value of the subject merchandise, we shall determine the CEP for such merchandise using the price of identical or other subject merchandise sold by the exporter or producer to an unaffiliated customer if there is a sufficient quantity of sales to provide a reasonable basis for comparison and we determine that the use of such sales is appropriate. If there is not a sufficient quantity of such sales or if we determine that using the price of identical or other subject merchandise is not appropriate, we may use any other reasonable basis to determine CEP.

To determine whether the value added is likely to exceed substantially the value of the subject merchandise, we estimated the value added based on the difference between the averages of the prices charged to the first unaffiliated purchaser for the merchandise as sold in the United States and the averages of the prices paid for the subject merchandise by the affiliated purchaser. Based on this analysis, we determined that the estimated value added in the United States by the further-manufacturing firms accounted for at least 65 percent of the price charged to the first unaffiliated customer for the merchandise as sold in the United States. See 19 CFR 351.402(c) for an explanation of our practice on this issue. Therefore, we preliminarily determine that the value added is likely to exceed substantially the value of the subject merchandise for Mori Seiki Co., Ltd., NSK Ltd., NSK U.K., NTN, Schaeffler KG, SKF France, and SKF Italy. Also, for these firms, we determine that there was a sufficient quantity of sales remaining to provide a reasonable basis for comparison and that the use of these sales is appropriate. For the analysis of the decision not to require further-manufactured data, see the Department's company-specific preliminary analysis memoranda dated concurrently with this notice. Accordingly, for purposes of determining dumping margins for the sales subject to the special rule, we have used the weighted-average dumping margins calculated on sales of identical or other subject merchandise sold to unaffiliated persons.

For Asahi, we determined that the special rule did not apply because the value added in the United States did not exceed substantially the value of the subject merchandise. Consequently, Asahi submitted responses to our further-manufacturing questionnaire which included the costs of the further processing performed by Asahi in the United States. We analyzed these sales in the same manner as non-further-manufactured products but deducted the value of further manufacturing incurred in the United States and an amount for profit attributable to the further manufacturing. We used the data reported in Asahi's questionnaire responses to calculate the further-manufacturing expense which we deducted from U.S. prices.

There were no other claimed or allowed adjustments to EP or CEP sales by the respondents. For further descriptions of our analysis, see the company-specific preliminary analysis memoranda dated concurrently with this notice.

Home-Market Sales

Based on a comparison of the aggregate quantity of home-market and U.S. sales and absent any information that a particular market situation in the exporting country did not permit a proper comparison, we determined that the quantity of foreign like product sold by all respondents in the exporting country was sufficient to permit a proper comparison with the sales of the subject merchandise to the United States pursuant to section 773(a)(1) of the Act. Each company's quantity of sales in its home market was greater than five percent of its sales to the U.S. market. Therefore, in accordance with section 773(a)(1)(B)(i) of the Act, we based normal value on the prices at which the foreign like product was first sold for consumption in the exporting country in the usual commercial quantities and in the ordinary course of trade and, to the extent practicable, at the same level of trade as the EP or CEP sales.

Due to the extremely large number of home-market transactions that occurred during the period of review and the resulting administrative burden involved in examining all of these transactions, we sampled sales to calculate normal value in accordance with section 777A of the Act. When a selected firm had more than 10,000 home-market sales transactions on a country-specific basis, we used sales in sample months that corresponded to the sample weeks which we selected for U.S. CEP sales, sales in a month prior to the period of review, and sales in the month following the period of review. The sample months were March 2009, June 2009, July 2009, October 2009, November 2009, January 2010, March 2010, and June 2010.

The Department may calculate normal value based on a sale to an affiliated party only if it is satisfied that the price to the affiliated party is comparable to the price at which sales are made to parties not affiliated with the exporter or producer, i.e., sales were made at arm's-length prices. See 19 CFR 351.403(c). We excluded from our analysis sales to affiliated customers for consumption in the home market that we determined not to be at arm's-length prices. To test whether these sales were made at arm's-length prices, we compared the prices of sales of comparable merchandise to affiliated and unaffiliated customers, net of all rebates, movement charges, direct selling expenses, and packing. Pursuant to 19 CFR 351.403(c) and in accordance with our practice, when the prices charged to an affiliated party were, on average, between 98 and 102 percent of the prices charged to unaffiliated parties for merchandise comparable to that sold to the affiliated party, we determined that the sales to the affiliated party were at arm's-length prices. See Antidumping Proceedings: Affiliated Party Sales in the Ordinary Course of Trade, 67 FR 69186 (November 15, 2002). We included in our calculation of normal value those sales to affiliated parties that were made at arm's-length prices. See company-specific preliminary analysis memoranda dated concurrently with this notice.

Cost of Production

In accordance with section 773(b) of the Act, in the last completed segment of the relevant country-specific proceeding we disregarded below-cost sales for Asahi, NSK Ltd., NSK U.K., NTN, Schaeffler Italia S.r.l., Schaeffler KG, SKF France, SKF Italy, and SNR. Therefore, for the instant reviews, we have reasonable grounds to believe or suspect that sales by all of the above companies of the foreign like product under consideration for the determination of normal value in these reviews may have been made at prices below the cost of production (COP) as provided by section 773(b)(2)(A)(ii) of the Act. Pursuant to section 773(b)(1) of the Act, we conducted COP investigations of sales by these firms in the respective home markets.

With respect to myonic, on November 15, 2010, The Timken Company alleged that myonic sold the foreign like product in Germany at prices below the COP during the period of review. Based on the information on the record and pursuant to section 773(b)(1) of the Act, we found we had reasonable grounds to initiate a COP investigation with respect to myonic. See the December 16, 2010, Memorandum to Laurie Parkhill entitled “Ball Bearings and Parts Thereof from Germany: Request to Initiate Cost Investigation for myonic GmbH.”

In accordance with section 773(b)(3) of the Act, we calculated the COP based on the sum of the costs of materials and fabrication employed in producing the foreign like product, the selling, general, and administrative (SG&A) expenses, and all costs and expenses incidental to packing the merchandise. With respect to NTN, we recalculated the reported general and administrative expenses by including expenses associated with replacing the defective product with respect to sales made to a certain customer category. With respect to Schaeffler KG, we did not allow Schaeffler KG's claimed interest income as an offset to its interest expenses because Schaeffler KG did not demonstrate that the interest income was short-term in nature. In our COP analysis, we used the home-market sales and COP information provided by each respondent in its questionnaire responses or, in the case of Schaeffler Italia S.r.l., additional COP information provided by its largest supplier.

After calculating the COP and in accordance with section 773(b)(1) of the Act, we tested whether home-market sales of the foreign like product were made at prices below the COP within an extended period of time in substantial quantities and whether such prices permitted the recovery of all costs within a reasonable period of time. We compared model-specific COPs to the reported home-market prices less any applicable movement charges, discounts, and rebates.

Pursuant to section 773(b)(2)(C) of the Act, when less than 20 percent of a respondent's sales of a given product were at prices less than the COP, we did not disregard any below-cost sales of that product because the below-cost sales were not made in substantial quantities within an extended period of time. When 20 percent or more of a respondent's sales of a given product during the period of review were at prices less than the COP, we disregarded the below-cost sales because they were made in substantial quantities within an extended period of time pursuant to sections 773(b)(2)(B) and (C) of the Act and because, based on comparisons of prices to weighted-average COPs for the period of review, we determined that these sales were at prices which would not permit recovery of all costs within a reasonable period of time in accordance with section 773(b)(2)(D) of the Act. Based on this test, we disregarded below-cost sales with respect to Asahi, myonic, NSK Ltd., NSK U.K., NTN, Schaeffler Italia S.r.l., Schaeffler KG, SKF France, SKF Italy, and SNR. See the relevant company-specific preliminary analysis memoranda dated concurrently with this notice.

Model-Match Methodology

For all respondents, where possible, we compared U.S. sales with sales of the foreign like product in the home market. Specifically, in making our comparisons, if an identical home-market model was reported, we made comparisons to weighted-average home-market prices that were based on all sales which, where appropriate, passed the COP test of the identical product during the relevant month. We calculated the weighted-average home-market prices on a level of trade-specific basis. If there were no contemporaneous sales of an identical model, we identified the most similar home-market model.

To determine the most similar model, we limited our examination to models sold in the home market that had the same bearing design, load direction, number of rows, and precision grade. Next, we calculated the sum of the deviations (expressed as a percentage of the value of the U.S. model's characteristics) of the inner diameter, outer diameter, width, and load rating for each potential home-market match and selected the bearing with the smallest sum of the deviations. If two or more bearings had the same sum of the deviations, we selected the model that was sold at the same level of trade as the U.S. sale and was the closest contemporaneous sale to the U.S. sale. If two or more models were sold at the same level of trade and were sold equally contemporaneously, we selected the model with the smallest difference-in-merchandise adjustment.

Finally, if no bearing sold in the home market had a sum of the deviations that was less than 40 percent, we concluded that no appropriate comparison existed in the home market. For a full discussion of the model-match methodology we have used in these reviews, see Antifriction Bearings and Parts Thereof from France, et al.: Preliminary Results and Partial Rescission of Antidumping Duty Administrative Reviews, 70 FR 25538, 25542 (May 13, 2005), and Ball Bearings and Parts Thereof from France, et al.: Final Results of Antidumping Duty Administrative Reviews, 70 FR 54711 (September 16, 2005), and accompanying Issues and Decision Memorandum at Comments 2, 3, and 5.

Normal Value

Home-market prices were based on the packed, ex-factory, or delivered prices to affiliated or unaffiliated purchasers. When applicable, we made adjustments for differences in packing and for movement expenses in accordance with sections 773(a)(6)(A) and (B) of the Act. Where companies received freight or packing revenues from the home-market customer, we offset these expenses in accordance with OJ Brazil and PRC Bags as discussed above. With respect to NTN, we recalculated the reported inventory-carrying costs consistent with the methodology described in AFBs 18 and accompanying Issues and Decision Memorandum at Comment 13. We also made adjustments for differences in cost attributable to differences in physical characteristics of the merchandise pursuant to section 773(a)(6)(C)(ii) of the Act and 19 CFR 351.411 and for differences in circumstances of sale in accordance with section 773(a)(6)(C)(iii) of the Act and 19 CFR 351.410. For comparisons to EP, we made circumstance-of-sale adjustments by deducting home-market direct selling expenses from, and adding U.S. direct selling expenses to, normal value. For comparisons to CEP, we made circumstance-of-sale adjustments by deducting home-market direct selling expenses from normal value. We recalculated Schaeffler KG's home-market imputed expenses using the interest rate we calculated based solely on loans denominated in the currency in which the home-market sales were made (i.e., Euros). We also made adjustments, when applicable, for home-market indirect selling expenses to offset U.S. commissions in EP and CEP calculations.

In accordance with section 773(a)(1)(B)(i) of the Act, we based normal value, to the extent practicable, on sales at the same level of trade as the EP or CEP. If normal value was calculated at a different level of trade, we made an adjustment, if appropriate and if possible, in accordance with section 773(a)(7)(A) of the Act. See “Level of Trade” section below.

Constructed Value

In accordance with section 773(a)(4) of the Act, we used constructed value as the basis for normal value when there were no usable sales of the foreign like product in the comparison market. We calculated constructed value in accordance with section 773(e) of the Act. We included the cost of materials and fabrication, SG&A expenses, U.S. packing expenses, and profit in the calculation of constructed value. In accordance with section 773(e)(2)(A) of the Act, we based SG&A expenses and profit on the amounts incurred and realized by each respondent in connection with the production and sale of the foreign like product in the ordinary course of trade for consumption in the home market.

When appropriate, we made adjustments to constructed value in accordance with section 773(a)(8) of the Act, 19 CFR 351.410, and 19 CFR 351.412 for circumstance-of-sale differences and level-of-trade differences. For comparisons to EP, we made circumstance-of-sale adjustments by deducting home-market direct selling expenses from and adding U.S. direct selling expenses to constructed value. For comparisons to CEP, we made circumstance-of-sale adjustments by deducting home-market direct selling expenses from constructed value. We also made adjustments, when applicable, for home-market indirect selling expenses to offset U.S. commissions in EP and CEP comparisons.

When possible, we calculated constructed value at the same level of trade as the EP or CEP. If constructed value was calculated at a different level of trade, we made an adjustment, if appropriate and if possible, in accordance with sections 773(a)(7) and (8) of the Act.

Level of Trade

To the extent practicable, we determined normal value for sales at the same level of trade as the U.S. sales (either EP or CEP). When there were no sales at the same level of trade, we compared U.S. sales to home-market sales at a different level of trade. The normal-value level of trade is that of the starting-price sales in the home market. When normal value is based on constructed value, the level of trade is that of the sales from which we derived SG&A and profit.

To determine whether home-market sales were at a different level of trade than U.S. sales, we examined stages in the marketing process and selling functions along the chain of distribution between the producer and the unaffiliated customer. If the home-market sales were at a different level of trade from that of a U.S. sale and the difference affected price comparability, as manifested in a pattern of consistent price differences between the sales on which normal value is based and home-market sales at the level of trade of the export transaction, we made a level-of-trade adjustment under section 773(a)(7)(A) of the Act. See, e.g., Notice of Final Determination of Sales at Less Than Fair Value: Certain Cut-to-Length Carbon Steel Plate From South Africa, 62 FR 61731, 61732 (November 19, 1997).

Where the respondent reported no home-market levels of trade that were equivalent to the CEP level of trade and where the CEP level of trade was at a less advanced stage than any of the home-market levels of trade, we were unable to calculate a level-of-trade adjustment based on the respondent's home-market sales of the foreign like product. Furthermore, we have no other information that provides an appropriate basis for determining a level-of-trade adjustment. For CEP sales in such situations, to the extent possible, we determined normal value at the same level of trade as the U.S. sale to the first unaffiliated customer and made a CEP-offset adjustment in accordance with section 773(a)(7)(B) of the Act. The CEP-offset adjustment to normal value was subject to the so-called “offset cap,” calculated as the sum of home-market indirect selling expenses up to the amount of U.S. indirect selling expenses deducted from CEP (or, if there were no home-market commissions, the sum of U.S. indirect selling expenses and U.S. commissions).

For a company-specific description of our level-of-trade analyses for these preliminary results, see Memorandum to Laurie Parkhill, dated concurrently with this notice, entitled “Ball Bearings and Parts Thereof from Various Countries: 2009/2010 Level-of-Trade Analysis,” on file in the CRU in the General Issues record (A-100-001).

Weighted-Average Margin

In order to derive a single weighted-average margin for each respondent, we weight-averaged the EP and CEP weighted-average margins (using the EP and CEP, respectively, as the weighting factors). To accomplish this when we sampled CEP sales, we first calculated the total dumping margins for all CEP sales during the review period by multiplying the sample CEP margins by the ratio of total days in the review period to days in the sample weeks. We then calculated a total net value for all CEP sales during the review period by multiplying the sample CEP total net value by the same ratio. Finally, we divided the combined total dumping margins for both EP and CEP sales by the combined total value for both EP and CEP sales to obtain the weighted-average margin.

Preliminary Results of Changed-Circumstances Review

On January 14, 2011, Schaeffler Technologies GmbH & Co. KG (Schaeffler Technologies) requested that the Department initiate a changed-circumstances review to determine whether Schaeffler Technologies is the successor-in-interest to Schaeffler KG. On February 24, 2011, we initiated a changed-circumstances review pursuant to the request from Schaeffler Technologies. See Ball Bearings and Parts Thereof From Germany: Initiation of Antidumping Duty Changed-Circumstances Review, 76 FR 10335 (February 24, 2011). We also announced that we would conduct the changed-circumstances review in the context of the 2009/2010 administrative review.

In determining whether one company is the successor to another for purposes of applying the antidumping duty law, the Department examines a number of factors including, but not limited to, changes in management, production facilities, supplier relationships, and customer base. See Ball Bearings and Parts Thereof from Japan: Initiation and Preliminary Results of Changed-Circumstances Review, 71 FR 14679, 14680 (March 23, 2006), unchanged in Notice of Final Results of Antidumping Duty Changed-Circumstances Review: Ball Bearings and Parts Thereof from Japan, 71 FR 26452 (May 5, 2006) (collectively CCR Japan), and Industrial Phosphoric Acid From Israel; Final Results of Antidumping Duty Changed Circumstances Review, 59 FR 6944 (February 14, 1994). Although no single or even several of these factors will necessarily provide a dispositive indication of succession, generally the Department will consider one company to be a successor to another company if its resulting operation is similar to that of its predecessor. See CCR Japan and Brass Sheet and Strip From Canada; Final Results of Antidumping Duty Administrative Review, 57 FR 20460 (May 13, 1992), at Comment 1. Thus, if the evidence demonstrates that, with respect to the production and sale of the subject merchandise, the new company operates as the same business entity as the prior company, the Department will assign the new company the cash-deposit rate of its predecessor. Id. See also Circular Welded Non-Alloy Steel Pipe From the Republic of Korea; Preliminary Results of Antidumping Duty Changed Circumstances Review, 63 FR 14679 (March 26, 1998), unchanged in Circular Welded Non-Alloy Steel Pipe From Korea; Final Results of Antidumping Duty Changed Circumstances Review, 63 FR 20572 (April 27, 1998), in which the Department found that a company which only changed its name and did not change its operations is a successor-in-interest to the company before it changed its name.

In its request dated January 14, 2011, Schaeffler Technologies provided information to demonstrate that it is the successor-in-interest to Schaeffler KG.

We preliminarily determine that Schaeffler Technologies is the successor-in-interest to Schaeffler KG. In its January 14, 2011, submission, Schaeffler Technologies provided evidence supporting its claim to be the successor-in-interest to Schaeffler KG. Specifically, Schaeffler Technologies demonstrated that, while the business concerning ball bearings conducted by Schaeffler KG has been transferred to Schaeffler Technologies as part of a reorganization process, the management, production facilities, supplier relationships, and customer base are materially not affected. All of Schaeffler KG's employees and managers remained with Schaeffler Technologies after the transfer was consummated and continue to be employed by Schaeffler Technologies. See January 14, 2011, submission from Schaeffler Technologies at 5. The production facilities now used by Schaeffler Technologies are the same as those used by Schaeffler KG and have not been modified or supplemented after the transfer. Id. at 6. Schaeffler Technologies continues to deal with the same suppliers with which Schaeffler KG dealt prior to the transfer and, Schaeffler Technologies claims, any changes in supplier relationships that might occur stem from ordinary commercial considerations not related to the transfer. Id. at 6. Finally, there have been no changes to the customer base of Schaeffler Technologies from that which existed under Schaeffler KG except those that result from the normal acquisition or loss of particular customers in the ordinary course of business. Id. at 6.

In summary, Schaeffler Technologies has presented evidence to support its claim of successorship. The record indicates that the February 1, 2010, transfer of Schaeffler KG's bearings business to Schaeffler Technologies has not changed the operations of the company in a meaningful way. The management, production facilities, supplier relationships, and customer base of Schaeffler Technologies are substantially unchanged from their status or circumstances prior to the acquisition. The record evidence demonstrates that the new entity operates essentially in the same manner as the predecessor company. Based on the above, we preliminarily determine that Schaeffler Technologies is the successor-in-interest to Schaeffler KG.

Preliminary Results of Reviews

As a result of our reviews, we preliminarily determine that the following percentage weighted-average dumping margins on ball bearings and parts thereof from various countries exist for the period May 1, 2009, through April 30, 2010:

Company | Margin (percent)
FRANCE
Alcatel Vacuum Technology | 5.12
Audi AG | 5.12
AVIAC | 66.42
Avio | 5.12
Bosch Rexroth SAS | 5.12
Caterpillar Group Services S.A. | 5.12
Caterpillar Materials Routiers S.A.S | 5.12
Caterpillar S.A.R.L. | 5.12
Dassault Aviation | 5.12
Eurocopter SAS | 66.42
Groupe Intertechnique | 66.42
Kongskilde Limited | 5.12
Perkins Engines Company Limited | 5.12
SKF France, S.A. and SKF Aerospace S.A.S | 4.88
SNECMA | 66.42
SNR Roulements S.A. and SNR Europe | 7.60
Technofan | 66.42
Volkswagon AG | 5.12
Volkswagen Zubehor GmbH | 5.12
GERMANY
Audi AG | 6.26
BAUER Machinen GmbH | 6.26
Bosch Rexroth AG | 6.26
BSH Bosch and Siemens Hausgerate GmbH | 6.26
Caterpillar S.A.R.L | 6.26
Heidelberger Druckmaschinen AG | 6.26
Kongskilde Limited | 6.26
Myonic GmbH | 11.42
Robert Bosch GmbH | 6.26
Robert Bosch GmbH Power Tools and Hagglunds Drives | 6.26
The Schaeffler Group, Schaeffler KG, and Schaeffler Technologies GmbH | 3.67
SKF GmbH | 6.26
Volkswagon AG | 6.26
Volkswagen Zubehor GmbH | 6.26
W & H Dentalwerk Burmoos GmbH | 6.26
ITALY
Audi AG | 12.32
Bosch Rexroth S.p.A | 12.32
Caterpillar Overseas S.A.R.L | 12.32
Caterpillar of Australia Pty. Ltd. | 12.32
Caterpillar Group Services S.A. | 12.32
Caterpillar Mexico, S.A. de C.V. | 12.32
Caterpillar Americas C.V | 12.32
Eurocopter | 69.99
Hagglunds Drives S.r.l | 12.32
Kongskilde Limited | 12.32
Perkin Engines Company Limited | 12.32
Schaeffler Italia S.r.l., WPB Water Pump Bearing GmbH & Co. KG, and The Scchaeffler Group | 2.87
SKF Industries S.p.A., Somecat S.p.A., and SKF RIV-SKF Officine di Villar Perosa S.p.A | 14.50
SNECMA | 69.99
Volkswagen AG | 12.32
Volkswagen Zubehor GmbH | 12.32
JAPAN
Asahi Seiko Co., Ltd | 3.46
Audi AG | 11.36
Bosch Corporation | 11.36
Bosch Packaging Technology K.K | 11.36
Bosch Rexroth Corporation | 11.36
Caterpillar Japan Ltd | 11.36
Caterpillar Overseas S.A.R.L | 11.36
Caterpillar Group Services S.A. | 11.36
Caterpillar Brazil Ltd | 11.36
Caterpillar Africa Pty. Ltd | 11.36
Caterpillar of Australia Pty. Ltd. | 11.36
Caterpillar S.A.R.L | 11.36
Caterpillar Americas Mexico, S. de R.L. de C.V | 11.36
Caterpillar Logistics Services China Ltd | 11.36
Caterpillar Mexico, S.A. de C.V. | 11.36
Hagglunds Ltd | 11.36
Hino Motors Ltd. | 11.36
JTEKT Corporation (formerly known as Koyo Seiko Co.) | 11.36
Kongskilde Limited | 11.36
Mazda Motor Corporation | 11.36
Mori Seiki Co., Ltd | 3.50
Nachi-Fujikoshi Corporation | 11.36
Nissan Motor Company, Ltd | 11.36
NSK Ltd | 9.28
NTN Corporation and NTN Kongo Corporation 13.43
Perkins Engines Company Limited | 11.36
Tsubakimoto Precision Products Co., Ltd | 73.55
Volkswagen AG | 11.36
Volkswagen Zubehor GmbH | 11.36
Yamazaki Mazak Trading Corporation | 11.36
UNITED KINGDOM
Alcatel Vacuum Technology | 5.90
Bosch Rexroth Ltd | 5.90
Caterpillar S.A.R.L | 5.90
Caterpillar Group Services S.A. | 5.90
Caterpillar of Australia Pty Ltd. | 5.90
Caterpillar Overseas S.A.R.L | 5.90
Caterpillar Marine Power UK | 5.90
NSK Bearings Europe Ltd | 5.90
Perkins Engines Company Ltd. | 5.90
SKF (U.K.) Limited and SKF Aeroengine Bearings U.K | 5.90
SNR UK | ⁵

Comments

We will disclose the calculations we used in our analysis to parties to these reviews within five days of the date of publication of this notice. See 19 CFR 351.224(b). Any interested party may request a hearing within 30 days of the date of publication of this notice. See 19 CFR 351.310(c). If requested, a general-issues hearing and any hearings regarding issues related solely to specific countries will be held at the main Department building at times and locations to be determined.

⁵ No shipments or sales subject to this review. The firm has an individual rate from the last segment of the proceeding in which the firm had shipments.

Interested parties who wish to request a hearing or to participate if one is requested must submit a written request to the Assistant Secretary for Import Administration within 30 days of the date of publication of this notice. See 19 CFR 351.310(c). Requests should contain the following: (1) The party's name, address, and telephone number; (2) the number of participants; (3) a list of issues to be discussed.

Issues raised in hearings will be limited to those raised in the respective case briefs. Case briefs from interested parties and rebuttal briefs, limited to the issues raised in the respective case briefs, may be submitted not later than the following dates:

Case | Briefs due | Rebuttals due
France | May 31, 2011 | June 6, 2011.
Germany ⁶ | May 31, 2011 | June 6, 2011.
Italy | May 31, 2011 | June 6, 2011.
Japan | May 31, 2011 | June 7, 2011.
United Kingdom | June 3, 2011 | June 13, 2011.
General Issues | June 6, 2011 | June 13, 2011.

Parties who submit case briefs (see 19 CFR 351.309(c)) or rebuttal briefs (see 19 CFR 351.309(d)) in these proceedings are requested to submit with each argument (1) a statement of the issue and (2) a brief summary of the argument. Parties are also encouraged to provide a summary of the arguments not to exceed five pages and a table of statutes, regulations, and cases cited.

⁶ Briefs should include any comments with respect to the changed-circumstances review concerning Schaeffler Technologies GmbH.

The Department intends to issue the final results of these administrative and changed-circumstances reviews, including the results of its analysis of issues raised in any such written briefs or at the hearings, if held, within 120 days of the date of publication of this notice.

Assessment Rates

The Department shall determine, and CBP shall assess, antidumping duties on all appropriate entries. In accordance with 19 CFR 351.212(b)(1), we have calculated, whenever possible, an exporter/importer (or customer)-specific assessment rate or value for merchandise subject to these reviews as described below.

The Department clarified its “automatic assessment” regulation on May 6, 2003. This clarification will apply to entries of subject merchandise during the period of review produced by companies selected for individual examination in these preliminary results of reviews for which the reviewed companies did not know their merchandise was destined for the United States. In such instances, we will instruct CBP to liquidate unreviewed entries at the country-specific all-others rate if there is no rate for the intermediate company(ies) involved in the transaction. For a full discussion of this clarification, see May 2003 clarification, 68 FR 23954.

For the companies which were not selected for individual examination and for the companies to which we are applying AFA, we will instruct CBP to apply the rates listed above to all entries of subject merchandise produced and/or exported by such firms.

Consistent with the May 2003 clarification, for SNR UK which claimed it had no shipments of subject merchandise to the United States, if there are any entries of subject merchandise produced by SNR UK into the United States, we will instruct CBP to liquidate the unreviewed entries of merchandise at the applicable all-others rate.

We intend to issue liquidation instructions to CBP 15 days after publication of the final results of these reviews.

Export-Price Sales

With respect to EP sales, for these preliminary results, we divided the total dumping margins (calculated as the difference between normal value and EP) for each examined exporter's importer or customer by the total number of units the exporter sold to that importer or customer. We will direct CBP to assess the resulting per-unit dollar amount against each unit of merchandise in each of that importer's/customer's entries under the relevant order during the review period.

Constructed Export-Price Sales

For CEP sales (sampled and non-sampled), we divided the total dumping margins for the reviewed sales by the total entered value of those reviewed sales for each importer. We will direct CBP to assess the resulting percentage margin against the entered customs values for the subject merchandise on each of that importer's entries under the relevant order during the review period. See 19 CFR 351.212(b).

Cash-Deposit Requirements

The following deposit requirements will be effective upon publication of the notice of final results of administrative reviews for all shipments of subject merchandise entered, or withdrawn from warehouse, for consumption on or after the date of publication, as provided by section 751(a)(1) of the Act: (1) The cash-deposit rates for the reviewed companies will be the rates established in the final results of the reviews; (2) for previously reviewed or investigated companies not listed above, the cash-deposit rate will continue to be the company-specific rate published for the most recent period; (3) if the exporter is not a firm covered in these reviews, a prior review, or the less-than-fair-value investigations but the manufacturer is, the cash-deposit rate will be the rate established for the most recent period for the manufacturer of the merchandise; (4) the cash-deposit rate for all other manufacturers or exporters will continue to be the all-others rate for the relevant order made effective by the final results of reviews published on July 26, 1993. See Final Results of Antidumping Duty Administrative Reviews and Revocation in Part of an Antidumping Duty Order, 58 FR 39729 (July 26, 1993). For ball bearings from Italy, see Antifriction Bearings (Other Than Tapered Roller Bearings) and Parts Thereof From France, et al.; Final Results of Antidumping Duty Administrative Reviews and Partial Termination of Administrative Reviews, 61 FR 66472, 66521 (December 17, 1996). These rates are the all-others rates from the relevant less-than-fair-value investigations. These deposit requirements, when imposed, shall remain in effect until further notice.

Notification to Importers

This notice also serves as a preliminary reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

These preliminary results of administrative reviews and preliminary results of changed-circumstances review are issued and published in accordance with sections 751(a)(1), 751(b)(1), and 777(i)(1) of the Act.

Dated: April 14, 2011.
Ronald K. Lorentzen,
Deputy Assistant Secretary for Import Administration.

[FR Doc. 2011-9721 Filed 4-20-11; 8:45 am]

BILLING CODE 3510-DS-P